DEPARTMENT OF AGRICULTURE

Rural Housing Service

Notice of Funds Availability (NOFA) for Section 514 Farm Labor Housing Loans and Section 516 Farm Labor Housing Grants for Off-Farm Housing for Fiscal Year 2004

AGENCY: Rural Housing Service (RHS), USDA.

ACTION: Notice.

SUMMARY: This NOFA announces the availability of funds for section 514 Farm Labor Housing loan funds and section 516 Farm Labor Housing grant funds for new construction and acquisition and rehabilitation of off-farm units for farmworker households. Applications may also include requests for section 521 rental assistance (RA). A “Notice of Timeframe for Section 514 Farm Labor Housing Loan and Section 516 Farm Labor Housing Grant for Fiscal Year 2004” was published in the Federal Register on February 6, 2004 (69 FR 5818). This was done soon after passage of a final appropriations act to allow sufficient time for applicants to complete an application and for the Agency to select and process selected applications within the current fiscal year. In the notice dated February 6, 2004, the Agency announced a deadline of May 6, 2004, 5 p.m., local time for each Rural Development State Office, for submitting applications for sections 514/516 Farm Labor Housing Loans and Grants and section 521 RA funds. Detailed information regarding the application and selection process, as well as a listing of the Rural Development State Offices, can be found in the February 6, 2004, notice.

FOR FURTHER INFORMATION CONTACT: For general information, applicants may contact Doug MacDowell, Senior Loan Specialist, of the Multi-Family Housing Processing Division, Rural Housing Service, United States Department of Agriculture, Stop 0781, 1400 Independence Avenue, SW., Washington, DC 20250, telephone (202) 720-1627 (voice) (this is not a toll free number) or (800) 877-8339 (TDD-Federal Information Relay Service).

SUPPLEMENTARY INFORMATION:

Programs Affected

The Farm Labor Housing Program is listed in the Catalog of Federal Domestic Assistance under Number 10.405, Farm Labor Housing Loans and Grants. Rental Assistance is listed in the Catalog under Number 10.427, Rural Rental Assistance Payments.

Discussion of Notice

I. Authority and Distribution Methodology

A. Authority

The Farm Labor Housing program is authorized by the Housing Act of 1949: section 514 (42 U.S.C. 1484) for loans and section 516 (42 U.S.C. 1486) for grants. Tenant subsidies (rental assistance (RA)) are available through section 521 (42 U.S.C. 1490a). Sections 514 and 516 provide RHS the authority to make loans and grants for financing off-farm housing to broad-based nonprofit organizations, nonprofit organizations of farmworkers, federally recognized Indian tribes, agencies or political subdivisions of State or local government, public agencies (such as local housing authorities) and with section 514 loans to nonprofit limited partnerships in which the general partner is a nonprofit entity.

B. Distribution Methodology

Because RHS has the ability to adjust loan and grant levels, final loan and grant levels will fluctuate. The estimated funds available for fiscal year (FY) 2004 for off-farm housing are:

Section 514 loans—$35,774,000

Section 516 grants—$13,400,759

Applications will be selected based on a national competition, as outlined in the February 6, 2004, notice.

II. Funding Limits

A. Individual requests may not exceed $3 million (total loan and grant).

B. No State may receive more than 30 percent of the total available funds unless an exception is granted from the Administrator.

C. Rental Assistance will be held in the National Office for use with section 514 loans and section 516 grants and will be awarded based on each project's financial structure and need.

Dated: March 9, 2004.
Arthur A. Garcia,
Administrator, Rural Housing Service.

[FR Doc. 04-5963 Filed 3-16-04; 8:45 am]

BILLING CODE 3410-XV-P